DEPARTMENT OF HEALTH AND HUMAN SERVICES

National Institutes of Health

Environmental Impact Statement Supplement: Montgomery County, Maryland

AGENCY: National Institutes of Health (NIH), DHHS.

Authority: 42 U.S.C. 4321-4347 (National Environmental Policy Act).

ACTION: Notice of intent.

SUMMARY: The NIH is issuing this notice to advise the public that a supplement to a final environmental impact statement will be prepared for a revision or update of the 1995 Master Plan for the NIH Main Campus in Bethesda in Montgomery County, Maryland.

FOR FURTHER INFORMATION CONTACT: Janyce Hedetniemi, Director, Office of Community Liaison, National Institutes of Health, Building 1, Room 259, One Center Drive, Bethesda, Maryland 20892-0172, telephone: (301) 496-3931.

SUPPLEMENTARY INFORMATION: The 322-acre NIH Bethesda Campus encompasses the largest biomedical research facility in the world. Approximately 17,000 people work at the site in 65 buildings with more than seven million square feet of floor space. The Office of the Director, NIH administrative staff, and the researchers and laboratories of individual research Institutes and Centers are located on the campus. The focal point of the campus is the Clinical Center Complex.

A Master Plan provides guidance in coordinating physical development in terms of buildings, utilities, roads, parking, landscaping, and general design guidelines. A Master Plan and Environmental Impact Statement (EIS) were prepared for the campus in 1995 (1995 Master Plan, NIH Main Campus, Bethesda, Maryland, Final, Environmental Impact Statement for the 1995 NIH Main Campus Master Plan, 2 vol. The Final Master Plan and Final EIS were published in January 1996 after approval by the National Capital Planning Commission.

The NIH declared its intent in the original documentation to update the Master Plan at approximately five-year intervals. The proposed action is to prepare the updated documentation. Since the development of the 1995 Master Plan included a complete National Environmental Policy Act (NEPA) scoping process and established baseline environmental conditions and potential cumulative impacts, and since the proposed action is an update/revision and not a new alternative, it is the intent of NIH to issue draft and final supplements to the original Final EIS. NIH has kept the surrounding community informed of planning issues on a continuing basis in the interim through the Community Liaison Council.

Alternatives that will be considered include (1) an update or revision of the 1995 master plan, and (2) taking no action.

No formal scoping meeting will be held. Letters describing the proposed action and soliciting comments will be sent to appropriate Federal, State, and local agencies, and to private organizations and citizens who have expressed interest in this proposal. A public hearing will be held, and public notice will be given of the time and place. The Draft EIS supplement will be available for public and agency review and comment. It is anticipated that the Draft will be available in November 2001.

To ensure that the full range of issues related to this proposed action are addressed, comments are invited from all interested parties. Comments and questions should be directed to the NIH at the address listed above.

Dated: August 20, 2001.
Yvonne T. Maddox,
Acting Deputy Director, National Institutes of Health.

[FR Doc. 01-21778 Filed 8-28-01; 8:45 am]

BILLING CODE 4140-01-P